ENVIRONMENTAL PROTECTION AGENCY

40 CFR Part 63

[AD-FRL-7148-7]

RIN 2060-AE34

National Emission Standards for Hazardous Air Pollutants from Natural Gas Transmission and Storage Facilities

AGENCY: Environmental Protection Agency (EPA).

ACTION: Final rule; technical correction.

SUMMARY: On June 17, 1999, we issued the national emission standards for hazardous air pollutants (NESHAP) from Oil and Natural Gas Production Facilities and the national emission standards for hazardous air pollutants from Natural Gas Transmission and Storage Facilities (Oil and Gas NESHAP). On June 29, 2001, we issued technical corrections to clarify intent and correct errors in the Oil and Gas NESHAP. This technical correction will correct an error that was made in the technical correction for the Natural Gas Transmission and Storage Facilities NESHAP and will not change the level of health protection the Natural Gas Transmission and Storage Facilities NESHAP provide or the basic control requirements of the Natural Gas Transmission and Storage Facilities NESHAP. The NESHAP require new and existing major sources to control emissions of hazardous air pollutants (HAP) to the level reflecting application of the maximum achievable control technology.

Section 553 of the Administrative Procedure Act, 5 U.S.C. 553(b)(B), provides that, when an agency for good cause finds that notice and public procedure are impractible, unnecessary, or contrary to the public interest, the agency may issue a rule without providing notice and an opportunity for public comment. We have determined that there is good cause for making this error correction without prior proposal and opportunity for comment because the change to the rule is a minor technical correction, is noncontroversial in nature, and does not substantively change the requirements of the Natural Gas Transmission and Storage Facilities NESHAP. Thus, notice and public procedure are unnessary. We find that this constitutes good cause under 5 U.S.C. 553(b)(5).

EFFECTIVE DATE: February 22, 2002.

ADDRESSEES: Docket No. A-94-04 contains the supporting information used in the development of this rulemaking. The docket is located at the U.S. EPA in room M-1500, Waterside Mall (ground floor), 401 M Street SW., Washington, DC 20460, and may be inspected from 8:30 a.m. to 5:30 p.m., Monday through Friday, excluding legal holidays. A reasonable fee may be charged for copying.

FOR FURTHER INFORMATION CONTACT: Mr. Greg Nizich, Waste and Chemical Processes Group, Emission Standards Division(C439-03), U.S. EPA, Research Triangle Park, North Carolina 27711, telephone number: (919) 541-3078, facsimile: (919) 541-0246, electronic mail address: nizich.greg@epa.gov.

SUPPLEMENTARY INFORMATION: Regulated entities. Entities that will potentially be affected by this correction are those that store or transport natural gas and are major sources of HAP as defined in section 112 of the Clean Air Act. The regulated categories and entities include:

Category | Examples of regulated entities
Industry | Glycol dehydration units and natural gas transmission and storage facilities.

This table is not intended to be exhaustive, but rather provides a guide for readers regarding entities likely to be regulated by this action. This table lists the types of entities that we are now aware could potentially be regulated by this action. Other types of entities not listed in the table could also be regulated. To determine whether your facility, company, business, organization, etc., is regulated by this action, you should carefully examine the applicability criteria in § 63.1270 of the Natural Gas Transmission and Storage Facilities NESHAP. If you have questions regarding the applicability of this action to a particular entity, consult the person listed in the preceding FOR FURTHER INFORMATION CONTACT section.World Wide Web (WWW). The text of today's document will also be available on the WWW through the Technology Transfer Network (TTN). Following signature, a copy of this action will be posted on the TTN's policy and guidance page for newly proposed or promulgated rules http://www.epa.gov/ttn/oarpg. The TTN provides information and technology exchange in various areas of air pollution control. If more information regarding the TTN is needed, call the TTN HELP line at (919) 541-5384.

I. Correction

Today's action consists of one error correction to the Natural Gas Transmission and Storage Facilities NESHAP technical corrections that were published on June 29, 2001 (66 FR 34548). This error correction is minor in nature and noncontroversial. We have deleted a subparagraph that was intended to have been deleted from the applicability section of the Natural Gas Transmission and Storage Facilities NESHAP.

The correction in today's action is being made to remove subparagraph § 63.1270(a)(1)(iv) that mistakenly remained in the June 29, 2001 technical corrections. In that action a single equation was added to simplify a four-step process to calculate natural gas throughput. The deletion of this subparagraph will avoid confusion and make it clear that only the single equation added in the June 29, 2001 action is used in determining natural gas throughput.

II. Administrative Requirements

Under Executive Order 12866 (58 FR 51735, October 4, 1993), this action is not a “significant regulatory action” and is, therefore, not subject to review by the Office of Management and Budget (OMB). Because the EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA. This action also does not significantly or uniquely affect the communities of tribal governments, as specified by Executive Order 13175 (65 FR 67249, November 6, 2000). This technical correction does not have substantial direct effects on the States, or on the relationship between the national government and the States, as specified in Executive Order 13132 (64 FR 43255, August 10, 1999). This technical correction also is not subject to Executive Order 13045 (62 FR 19885, April 23, 1997) because it is not economically significant.

This technical correction action does not involve technical standards; thus, the requirements of section 12(d) of the National Technology Transfer and Advancement Act of 1995 (15 U.S.C. 272) do not apply. This technical correction also does not involve special consideration of environmental justice related issues as required by Executive Order 12898 (59 FR 7629, February 16, 1994). In issuing this technical correction, EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of this rule amendment in accordance with the “Attorney General's Supplemental Guidelines for the Evaluation of Risk and Avoidance of Unanticipated Takings” issued under the Executive Order. This technical correction does not impose an information collection burden under the provisions of the Paperwork Reduction Act of 1995 (44 U.S.C. 3501 et seq.). The EPA's compliance with these statutes and Executive Orders for the underlying rule is discussed in the June 17, 1999 (64 FR 32610) Federal Register publication containing the Oil and Natural Gas Production final rule and Natural Gas Transmission and Storage final rule.

This technical correction is not subject to Executive Order 13211, “Actions Concerning Regulations That Significantly Affect Energy Supply, Distribution, or Use” (66 FR 28355, May 22, 2001) because it is not a significant regulatory action under Executive Order 12866.

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefor, and established an effective date of February 22, 2002. The EPA will submit a report containing this rule and other required information to the U.S. Senate, the U.S. House of Representatives, and the Comptroller General of the United States prior to publication of the rule in the Federal Register. This action is not a “major rule” as defined by 5 U.S.C. 804(2).

List of Subjects for 40 CFR Part 63

Environmental protection, Administrative practice and procedure, Air pollution control, Hazardous substances, Intergovernmental relations, Reporting and recordkeeping requirements.

Dated: February 14, 2002.
Robert Brenner,
Acting Assistant Administrator for Air and Radiation.

For the reasons set out in the preamble, title 40, chapter I, part 63 of the Code of Federal Regulations is amended as follows:

PART 63—[AMENDED]

1. The authority citation for part 63 continues to read as follows:

Authority: 42 U.S.C. 7401, et seq.

Subpart HHH—[Amended]

2. Section 63.1270 is amended by removing paragraph (a)(1)(iv).

[FR Doc. 02-4301 Filed 2-21-02; 8:45 am]

BILLING CODE 6560-50-P